DEPARTMENT OF THE INTERIOR

Fish and Wildlife Service

Notice of Intent to Prepare Comprehensive Conservation Plans and Associated Environmental Documents for the Great Dismal Swamp National Wildlife Refuge

AGENCY: Fish and Wildlife Service, Department of Interior.

SUMMARY: This notice advises the public that the U.S. Fish and Wildlife Service (Service) intends to gather information necessary to prepare a Comprehensive Conservation Plan (CCP) and environmental documents pursuant to the National Environmental Policy Act and its implementing regulations. CCPs will be prepared for the Great Dismal Swamp National Wildlife Refuge (NWR) located in Suffolk and Chesapeake, Virginia and Gates and Camden Counties, North Carolina and the Nanesmond Refuge Unit located within the City of Suffolk, Virginia. A Wilderness Review of Great Dismal Swamp NWR will also be completed concurrently in accordance with the Wilderness Act of 1964, as amended and Refuge Planning policy 602 FW Chapters 1, 2, and 3. The Service is furnishing this notice in compliance with the National Wildlife Refuge System Administration Act of 1966, as amended (16 U.S.C. 668dd et seq.): (1) To advise other agencies and the public of our intentions, and (2) to obtain suggestions and information on the scope of issues to include in the environmental documents.

DATES: Inquire at the address below for dates of planning activity and due dates for comments. The public scoping meetings will be held in January 2002 in the cities of Suffolk and Chesapeake, Virginia and also in Elizabeth City and Gatesville, North Carolina in the following locations:

January 8, 2002

Hampton Inn, 402 Halstead Boulevard, Elizabeth City, North Carolina

January 10, 2002

Performing Arts Building, Gates County High School, 088 Highway 158 West, Gatesville, North Carolina

January 22, 2002

City Council Chambers, 441 Market Street, Suffolk, Virginia

January 24, 2002

Major Hillard Public Library, Deep Creek, 824 Old George Washington Highway, Chesapeake, Virginia

ADDRESSES: Address comments, questions, and request for more information to the following: Refuge Manager, Great Dismal Swamp National Wildlife Refuge, P.O. Box 349, Suffolk, VA 23439-0349, 757-986-3706.

SUPPLEMENTARY INFORMATION: By Federal law, all lands within the National Wildlife Refuge System are to be managed in accordance with an approved CCP. The CCP guides management decisions and identifies refuge goals, long-range objectives, and strategies for achieving refuges purposes. The planning process will consider many elements including habitat and wildlife management, habitat protection and acquisition, public uses, and cultural resources. Public input into this planning process is essential. The CCP will provide other agencies and the public with a clear understanding of the desired conditions for the Refuges and how the Service will impact management strategies.

The Service will solicit public input via, open houses, public meetings, workshops, and written comments. Special mailings, newspaper articles, and announcements will inform people of the time and place of such opportunities for public input to the CCP. The Great Dismal Swamp National Wildlife Refuge encompasses some 109,000 acres of marshes, wooded wetlands/swamps, and open water. Comments on the protection of threatened and endangered species and migratory birds and the protection and management of their habitat will be solicited as part of the planning process. A Draft CCP and Environmental Assessment are planned for public review by December of 2002.

Review of the project will be conducted in accordance with the requirements of the national Environmental Policy Act of 1969, as amended (42 U.S.C. 4321 et seq.), NEPA Regulations (40 CFR parts 1500-1508), other appropriate Federal laws and regulations, and Service policies and procedures for compliance with those regulations.

Mamie A. Parker,
Acting Regional Director U.S. Fish and Wildlife Service, Hadley, Massachusetts.

[FR Doc. 01-25191 Filed 10-5-01; 8:45 am]

BILLING CODE 4310-55-P